DEPARTMENT OF HOUSING AND URBAN DEVELOPMENT

[Docket No. FR-4950-FA-13]

Announcement of Funding Awards for Fiscal Year 2005 Tribal Colleges and Universities Program

AGENCY: Office of the Assistant Secretary for Policy Development and Research, HUD.

ACTION: Announcement of funding awards.

SUMMARY: In accordance with section 102 (a)(4)(C) of the Department of Housing and Urban Development Reform Act of 1989, this document notifies the public of funding awards for Fiscal Year 2005 Tribal Colleges and Universities Program. The purpose of this document is to announce the names and addresses of the award winners and the amount of the awards which are to be used to enable tribal colleges and universities to build, expand, renovate, and equip their own facilities, especially those that are available to and used by the larger community.

FOR FURTHER INFORMATION CONTACT: Susan Brunson, Office of University Partnerships, Department of Housing and Urban Development, 451 Seventh Street, SW., Room 8106, Washington, DC 20410, telephone (202) 708-3061, ext. 3852. To provide service for persons who are hearing-or-speech-impaired, this number may be reached via TTY by Dialing the Federal Information Relay Service on (800) 877-8339 or (202) 708-1455 (Telephone numbers, other than “800” TTY numbers are not toll free.)

SUPPLEMENTARY INFORMATION: The Tribal Colleges and Universities Program was enacted under section 107 of the CDBG appropriation for Fiscal Year 2005, as part of the “Veterans Administration, HUD and Independent Agencies Appropriations Act of 2005” and is administered by the Office of University Partnerships under the Office of the Assistant Secretary for Policy Development and Research. In addition to this program, the Office of University Partnerships administers HUD's ongoing grant programs to institutions of higher education as well as creates initiatives through which colleges and universities can bring their traditional missions of teaching, research, service, and outreach to bear on the pressing local problems in their communities.

The Tribal Colleges and Universities Program assist tribal colleges and universities to build, expand, renovate, and equip their own facilities.

The Catalog of Federal Domestic Assistance number for this program is 14.519.

On March 21, 2005 (FR 70, No 53, 13733), HUD published a Notice of Funding Availability (NOFA) announcing the availability of $2.9 million in Fiscal Year 2005 funds for the Tribal Colleges and Universities Program. The Department reviewed, evaluated and scored the applications received based on the criteria in the NOFA. As a result, HUD has funded the applications below, in accordance with section 102(a)(4)(C) of the Department of Housing and Urban Development Reform Act of 1989 (103 Stat. 1987, 42 U.S.C. 3545).

List of Awardees for Grant Assistance Under the FY 2005 Tribal Colleges and Universities Program Funding Competition, by Institution, Address, and Grant Amount

Region VIII

1. Fort Berthold Community College, Mr. Keith Smith, Fort Berthold Community College, 220 8th Avenue North, New Town, ND 58763. Grant: $520,770.

2. Sitting Bull College, Ms. Laurel Vermillion, 1341 92nd Street, Fort Yates, ND 58538. Grant: $600,000.

3. Fort Belknap College, Ms. Carole Falcon-Chandler, Fort Belknap College, PO Box 159, Highway 2 & Highway 66, Harlem, MT 59526. Grant: $600,000.

4. Salish Kootenai College, Mr. Michael O'Donnell, Salish Kootenai College, 52000 Highway 93 North, Pablo, MT 59855. Grant: $600,000.

5. Oglala Lakota College, Mr. Thomas Shortbull, Oglala Lakota College, 490 Piya Wiconi Road, Kyle, SD 57752. Grant: $600,000.

Dated: September 22, 2005.
Harold L. Bunce,
Deputy Assistant Secretary for Economic Affairs.

[FR Doc. E5-5465 Filed 10-5-05; 8:45 am]

BILLING CODE 4210-27-P